RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Continuing Disability Report; OMB 3220-0187. Under Section 2 of the Railroad Retirement Act, an annuity is not payable or is reduced for any month in which the annuitant works for a railroad or earns more than prescribed dollar amounts from either non-railroad employment or self-employment. Certain types of work may indicate an annuitant's recovery from disability. The provisions relating to the reduction or non-payment of an annuity by reason of work, and an annuitant's recovery from disability for work, are prescribed in 20 CFR 220.17-220.20. The RRB conducts continuing disability reviews (CDR) to determine whether an annuitant continues to meet the disability requirements of the law. Provisions relating to when and how often the RRB conducts CDR's are prescribed in 20 CFR 220.186.

Form G-254, Continuing Disability Report, is used by the RRB to develop information for a CDR determination, including a determination prompted by a report of work, return to railroad service, allegation of medical improvement, or a routine disability review call-up.

The RRB proposes the following changes:

Form G-254 is being revised to make non-burden impacting editorial and formatting changes. In addition, significant changes are proposed to Form G-254 in support of the RRB's Disability Program Improvement Project (DPIP) to enhance/improve disability case processing and overall program integrity as recommended by the RRB's Office of Inspector General and the Government Accountability Office. Proposed revisions/additions include:

• Providing, in Item 31a, more descriptive labels (Easy, Difficult, Hard, Not at All, and N.A.) to help identify the applicant's ability to perform an activity.

○ Requesting for information on four new activity items (Sitting, Standing, Reading, and Writing), to be consistent with other RRB disability forms.

• New Item 31b, which requests the applicant to provide additional information about their daily activities.

• Requesting, in Item 31d, when a disability annuitant uses an assistive device (wheelchair, cane, etc.).

The RRB also proposes the addition of new Form RL-8A, Occupational Disability Certification, which the RRB will use to annually monitor occupational disability annuitants who meet certain criteria. The form will require that the annuitant certify that they are still disabled in order to continue receiving their occupational disability annuities. Form RL-8 will be used to transmit the Form RL-8A. The Paperwork Reduction Act and Privacy Act Notices are on Form RL-8A.

Form G-254a, Continuing Disability Update Report, is used to help identify a disability annuitant whose work activity and/or recent medical history warrants completion of Form G-254 for a more extensive review. The RRB proposes no changes to Form G-254a.

Completion is required to retain a benefit. One response is requested of each respondent to Forms G-254 and G-254a.

Estimate of Annual Respondent Burden
Form No. | Annual responses | Time (minutes) | Burden (hours)
G-254 | 1,500 | 5-35 | 623
G-254A | 1,500 | 5 | 125
RL-8A | 400 | 15 | 100
Total | 3,400 |  | 848

Additional Information or Comments: To request more information or to obtain a copy of the information collection justification, forms, and/or supporting material, contact Dana Hickman at (312) 751-4981 or Dana.Hickman@RRB.GOV. Comments regarding the information collection should be addressed to Brian Foster, Railroad Retirement Board, 844 North Rush Street, Chicago, Illinois 60611-1275 or emailed to Brian.Foster@rrb.gov. Written comments should be received within 60 days of this notice.

Brian D. Foster,
Clearance Officer.

[FR Doc. 2017-02064 Filed 1-31-17; 8:45 am]

BILLING CODE 7905-01-P